DEPARTMENT OF ENERGY

Federal Energy Regulatory Commission

[Project No. 13563-003]

Juneau Hydropower, Inc.; Notice of Application Tendered for Filing With the Commission

Take notice that the following hydroelectric application has been filed with the Commission and is available for public inspection.

a. Type of Application: Major Original License.

b. Project No.: 13563-003.

c. Date filed: May 29, 2014.

d. Applicant: Juneau Hydropower, Inc.

e. Name of Project: Sweetheart Lake Hydroelectric Project.

f. Location: On Sweetheart Lake and Sweetheart Creek in the City and Borough of Juneau, Alaska. The project will occupy about 2,058 acres of federal lands located in the Tongass National Forest administered by the United States Forest Service.

g. Filed Pursuant to: Federal Power Act 16 U.S.C. 791(a)-825(r).

h. Applicant Contact: Duff W. Mitchell, Business Manager, Juneau Hydropower, Inc., P.O. Box 22775, Juneau, AK 99802; (907) 789-2775.

i. FERC Contact: John Matkowski at (202) 502-8576, john.matkowski@ferc.gov.

j. Cooperating agencies: Federal, state, local, and tribal agencies with jurisdiction and/or special expertise with respect to environmental issues that wish to cooperate in the preparation of the environmental document should follow the instructions for filing such requests described in item k below. Cooperating agencies should note the Commission's policy that agencies that cooperate in the preparation of the environmental document cannot also intervene. See, 94 FERC ¶ 61,076 (2001).

k. Deadline for requests for cooperating agency status: July 28, 2014.

The Commission strongly encourages electronic filing. Please file requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13563-003.

l. The application is not ready for environmental analysis at this time.

m. The proposed Sweetheart Lake Project would consist of: (1) The existing Sweetheart Lake with a surface area of 1,702 acres and an active storage capacity of 94,069 acre-feet at normal maximum water elevation; (2) a 280-foot-long, 111-foot-high roller-compacted concrete dam; (3) an intake structure with a fish screen; (4) a 9,621-foot-long, 15-foot-high, 15-foot-wide unlined power tunnel conveying flow from the project intake to the penstock; (5) a 1,056-foot-long, 7- to 9-foot-diameter penstock, the initial 896 feet of which is located in the lower power tunnel; (6) a 160-foot-long, 60-foot-wide powerhouse containing three 6.6-megawatt Francis generating units; (7) a 541-foot-long tailrace that will flow into Sweetheart Creek; (8) a 25-foot-long, 5-foot-wide, 4-foot-deep salmon smolt re-entry pool located adjacent to the powerhouse and tailrace; (9) a switchyard adjacent to the powerhouse; (10) an 8.69-mile-long, 138-kilovolt (kV) transmission line consisting of buried, submarine, and overhead segments; (11) a 2.8-mile-long, 12.47-kV service line; (12) a 4,400-foot-long access road; (13) marine access facilities including a dock, ramp, and landing site; (14) a caretaker facility near the powerhouse; (15) a shelter facility at the dam site; and (16) appurtenant facilities. The proposed Sweetheart Lake Project would have an average annual generation of 116 gigawatt-hours.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

o. Procedural schedule: The application will be processed according to the following preliminary Hydro Licensing Schedule. Revisions to the schedule will be made as appropriate.

Issue Notice of Acceptance/Notice of Ready for Environmental Analysis | November 2014.
Filing of Comments, Terms and Conditions, Recommendations and Prescriptions | January 2015.
Commission issues Draft Environmental Impact Statement (EIS) | August 2015.
Comments on draft EIS | October 2015.
Commission issues final EIS | March 2016.

Dated: June 5, 2014.
Kimberly D. Bose,
Secretary.

[FR Doc. 2014-13699 Filed 6-11-14; 8:45 am]

BILLING CODE 6717-01-P